INTERNATIONAL TRADE COMMISSION

[Investigations Nos. 701-TA-297 and 731-TA-422 (Second Review)]

Steel Rails From Canada

AGENCY: International Trade Commission.

ACTION: Termination of five-year reviews.

SUMMARY: The subject five-year reviews were initiated in January 2005 to determine whether revocation of the countervailing duty and antidumping duty orders on steel rails from Canada would be likely to lead to continuation or recurrence of material injury to a domestic industry. On April 11, 2005, the Department of Commerce published notice that it was revoking the orders effective February 9, 2005 because “no domestic interested party responded to the sunset review notice of initiation by the applicable deadline” (70 FR 18361). Accordingly, pursuant to section 751(c) of the Tariff Act of 1930 (19 U.S.C. 1675(c)), the subject reviews are terminated.

EFFECTIVE DATE: February 9, 2005.

FOR FURTHER INFORMATION CONTACT: Robert Carpenter (202-205-3172), Office of Investigations, U.S. International Trade Commission, 500 E Street SW., Washington, DC 20436. Hearing-impaired individuals are advised that information on this matter can be obtained by contacting the Commission's TDD terminal on 202-205-1810. Persons with mobility impairments who will need special assistance in gaining access to the Commission should contact the Office of the Secretary at 202-205-2000. General information concerning the Commission may also be obtained by accessing its Internet server (http://www.usitc.gov).

Authority: These reviews are being terminated under authority of title VII of the Tariff Act of 1930; this notice is published pursuant to section 207.69 of the Commission's rules (19 CFR § 207.69).

By order of the Commission.
Issued: April 15, 2005.
Marilyn R. Abbott,
Secretary to the Commission.

[FR Doc. 05-7926 Filed 4-19-05; 8:45 am]

BILLING CODE 7020-02-P